DEPARTMENT OF HOMELAND SECURITY

[Docket No. DHS-2011-0043]

Telecommunications Service Priority System

AGENCY: National Protection and Programs Directorate, DHS.

ACTION: 30-Day Notice and request for comments; Extension, without change, of a currently approved collection.

SUMMARY: The Department of Homeland Security (DHS), National Protection and Programs Directorate (NPPD), Office of Cybersecurity and Communications (CS&C), National Communications System (NCS) will submit the following information collection request (ICR) to the Office of Management and Budget (OMB) for review and clearance in accordance with the Paperwork Reduction Act of 1995 (Pub. L. 104-13, 44 U.S.C. Chapter 35). DHS is soliciting comments concerning Extension, without change, of a currently approved collection: 1670-0005, Telecommunications Service Priority (TSP) System. DHS previously published this information collection request (ICR) in the Federal Register, 76 FR 2011-13953 (June 7, 2011), for a 60-day public comment period. No comments were received by DHS. The purpose of this notice is to allow an additional 30 days for public comments.

DATES: Comments are encouraged and will be accepted until September 30, 2011. This process is conducted in accordance with 5 CFR 1320.10.

ADDRESSES: Written comments and questions about this ICR should be forwarded to DHS/NPPD/CS&C/NCS, 245 Murray Lane, Mail Stop 0615, Arlington, VA 20598-0615. E-mailed requests should go to Deborah Bea, deborah.bea@dhs.gov. Comments must be identified by DHS-2011-0043 and may also be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: The purpose of the TSP System is to provide a legal basis for telecommunications vendors to provide priority provisioning and restoration of telecommunications services supporting national security and emergency preparedness functions. The information gathered via the TSP System forms is the minimum necessary for the DHS/NCS to effectively manage the TSP System.

Analysis

Agency: Department of Homeland Security, National Protection and Programs Directorate, Office of Cybersecurity and Communications, National Communications System.

Title: Telecommunications Service Priority System.

OMB Number: 1670-0005.

Frequency: Information is required on particular occasions when an organization decides it wants TSP on its critical circuits. It is occasional/situational—the program office is not able to determine when this will occur.

Affected Public: Business and state, local, or tribal governments.

Number of Respondents: 28,161 respondents.

Estimated Time per Respondent: 3 hours, 17 minutes.

Total Burden Hours: 7,727.42 annual burden hours.

Total Burden Cost (capital/startup): $251,141.15.

Total Burden Cost (operating/maintaining): $0.00.

Dated: August 24, 2011.
David Epperson,
Chief Information Officer, National Protection and Programs Directorate, Department of Homeland Security.

[FR Doc. 2011-22238 Filed 8-30-11; 8:45 am]

BILLING CODE 9110-9P-P